DEPARTMENT OF LABOR

Bureau of Labor Statistics

Re-Establishment of the Bureau of Labor Statistics Data Users Advisory Committee

The Secretary of Labor is announcing the re-establishment of a Federal Advisory Committee. In accordance with the provisions of the Federal Advisory Committee Act (FACA), 5 U.S.C. App. 2, the Secretary of Labor has determined that the re-establishment of the Bureau of Labor Statistics Data Users Advisory Committee (the “Committee”) is in the public interest in connection with the performance of duties imposed upon the Commissioner of Labor Statistics by29 U.S.C. 1 and 2. This determination follows consultation with the Committee Management Secretariat, General Services Administration.

The Committee provides advice to the Bureau of Labor Statistics from the points of view of data users from various sectors of the U.S. economy, including the labor, business, research, academic and government communities, on technical matters related to the collection, analysis, dissemination, and use of the Bureau's statistics, on its published reports, and on the broader aspects of its overall mission and function.

The Committee will function solely as an advisory body to the BLS, on technical topics selected by the BLS.

The Committee is responsible for providing the Commissioner of Labor Statistics: (1) The priorities of data users; (2) suggestions concerning the addition of new programs, changes in the emphasis of existing programs or cessation of obsolete programs; and (3) advice on innovations in data collection, dissemination and presentation. The Committee will report to the Commissioner of Labor Statistics, agency head of the BLS.

The Committee will not exceed 25 members. Members are appointed by the BLS and approved by the Secretary of Labor. Membership of the Committee will represent a balance of expertise across a broad range of BLS programs. Members will be drawn from the labor, business, government, research and academic communities in roughly equal proportion. Committee members are economists, business analysts, labor analysts, and public policy specialists. They are prominent experts in their fields and are recognized for their professional achievements.

The Committee will function solely as an advisory body, in compliance with the provisions of the Federal Advisory Committee Act. The Charter will be filed under the Federal Advisory Committee Act.

For Further Information Contact: Cheryl Kerr, Office of the Commissioner, Bureau of Labor Statistics, telephone: 202-691-7808, e-mail: kerr.cheryl@bls.gov.

Signed at Washington, DC, this 26th day of October 2010.
Kimberley D. Hill,
Chief, Division of Management Systems, Bureau of Labor Statistics.

[FR Doc. 2010-27483 Filed 10-29-10; 8:45 am]

BILLING CODE 4510-24-P